ARCHITECTURAL AND TRANSPORTATION BARRIERS COMPLIANCE BOARD

36 CFR Parts 1193 and 1194

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, times, and location of two upcoming conference calls.

DATES: The conference calls are scheduled for August 21 and August 28, 2007 (beginning at 1 p.m. and ending at 3 p.m. Eastern time each day).

ADDRESSES: Individuals can participate in the conference calls by dialing into the teleconference numbers which will be posted on the Access Board's Web site at: http://www.access-board.gov/sec508/update-index.htm. Individuals may also participate in the conference calls at the Access Board's offices at 1331 F Street, NW., suite 1000, Washington, DC 20004-1111.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next committee meetings will take place on August 21 and August 28, 2007 (both meetings will be from 1 p.m. to 3 p.m. Eastern time) by teleconference. The meeting on August 21 will focus on reports and recommendations from the Documentation and Technical Support subcommittee. The meeting on August 28 will focus on reports and recommendations from the Audio-Video subcommittee. The agendas, instructions (including information on captioning), and dial in telephone numbers for the teleconferences are available at http://www.access-board.gov/sec508/update-index.htm. Notices of future meetings will be published in the Federal Register.

The conference calls are open to the public and interested persons can dial into the teleconferences and communicate their views. Members of the public will have opportunities to address the committee on issues of interest to them and the committee during public comment periods scheduled during each conference call.

Participants may call into the teleconferences from any location of their choosing. However, all participants must pre-register for each call. This will allow the Access Board to better manage the teleconferences and to provide additional information as needed. Any persons intending to participate must notify Timothy Creagan at creagan@access-board.gov by August 15 of their intent to attend the August 21 teleconference and by August 22 of their intent to attend the August 28 teleconference. The Access Board has very limited space at its office which will be available during the conference calls. Anyone wishing to participate on the call at the Access Board must contact Timothy Creagan by these dates to pre-register. Sign language interpreters, an assistive listening system, and real-time captioning will be provided at the Access Board's offices during the teleconferences. For the comfort of other participants, persons attending the teleconferences at the Access Board's offices are requested to refrain from using perfume, cologne, and other fragrances.

James J. Raggio,
General Counsel.

[FR Doc. E7-15062 Filed 8-2-07; 8:45 am]

BILLING CODE 8150-01-P